FEDERAL FINANCIAL INSTITUTIONS EXAMINATION COUNCIL

[Docket No. AS13-23]

Appraisal Subcommittee Meeting

AGENCY: Appraisal Subcommittee of the Federal Financial Institutions Examination Council.

ACTION: Notice of meeting.

SUMMARY: In accordance with Section 1104(b) of Title XI of the Financial Institutions Reform, Recovery, and Enforcement Act of 1989, as amended, notice is hereby given that the Appraisal Subcommittee (ASC) will meet in closed session:

DATES: October 9, 2013.

ADDRESSES: 400 7th Street SW., Washington, DC 20024.

SUPPLEMENTARY INFORMATION:

Location: OCC—400 7th Street SW., Washington, DC 20024

Date: October 9, 2013

Time: Immediately following the ASC open session

Status: Closed

Matters To Be Considered

September 11, 2013 minutes—Closed Session

Preliminary discussion of State Compliance Reviews

Dated: September 26, 2013.
James R. Park,
Executive Director.

[FR Doc. 2013-23986 Filed 10-1-13; 8:45 am]

BILLING CODE 6700-01-P